DEPARTMENT OF HEALTH AND HUMAN SERVICES

Administration for Children and Families

Proposed Information Collection Activity; Comment Request

Title: National Survey of Early Care and Education.

OMB No.: New Collection.

Billing Accounting Code (BAC): 418423 (CAN G999916).

Description: The Administration for Children and Families (ACF), U.S. Department of Health and Human Services (HHS), is proposing a data collection activity as part of the National Survey of Early Care and Education (NSECE) which will be conducted December, 2011 through June, 2012. The objective of the NSECE is to document the nation's current need for and availability of early care and education and including school-age care (ECE/SA), and to deepen our understanding of the extent to which families' needs and preferences coordinate well with providers' offerings and constraints. The proposed collection will consist of four survey components: (1) A survey of households with children under the age of 13 for participation in a questionnaire on the need for and use of early care and education (Household Interview), (2) a survey of households with individuals providing care for children under the age of 13 in a residential setting (Home-based Provider Interview), (3) a survey of providers of care to children under 13 in a non-residential setting (Center-based Provider Interview), and (4) a survey conducted with individuals employed in center-based child care programs (Workforce Provider Interview).

These data collection efforts will provide urgently needed information about the provision of ECE/SA across the country and spanning many sectors of care providers such as community-based child care, Head Start, school-based Pre-K, family child care, family, friend and neighbor care, and after-school programs. The study will also dramatically extend the available resources for understanding how families use, seek, and cope with the ECE/SA choices that are available to them. Perhaps most significantly, the NSECE will allow the policy and research communities to merge data from families and providers at the local level—where the two actually meet.

Respondents: General population households, home-based and center-based child care providers (including public schools) serving children under 13, and selected staff members from center-based child care providers (including public schools) serving children under 13.

Instrument | Annual number of respondents | Number of responses per respondent | Average burden hours per response | Estimated annual burden hours
Household screener | 83,767 | 1 | .1 | 8,377
Household Interview | 17,512 | 1 | .75 | 13,134
Home-Based Provider Interview | 11,260 | 1 | .3 | 3,378
Center-Based Provider Interview | 12,520 | 1 | .67 | 8,389
Workforce Provider Interview | 9,390 | 1 | .33 | 3,099

Estimated Total Annual Burden Hours: 36,377.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 8, 2011.
Steven P. Hanmer,
Reports Clearance Officer.

[FR Doc. 2011-3176 Filed 2-14-11; 8:45 am]

BILLING CODE 4184-01-M